DEPARTMENT OF THE INTERIOR

National Park Service

National Register of Historic Places; Notification of Pending Nominations and Related Actions

Nominations for the following properties being considered for listing or related actions in the National Register were received by the National Park Service before April 30, 2005. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by June 10, 2005.

John W. Roberts,
Acting Chief, National Register/National Historic Landmarks Program.

ARKANSAS

Jefferson County

Tucker School, Vandalsen Dr., Tucker, 05000538

DISTRICT OF COLUMBIA

District of Columbia

Dupont Circle Historic District (Boundary Increase), Various areas within an area roughly bounded by 16th St., T St., Florida, 23rd and M St. NW., Washington, 05000539

Watergate, 2500, 2600, 2650, 2600 Virginia Ave. NW., 600, 700 New Hampshire Ave. NW., Washington, 05000540

HAWAII

Hawaii County

Holualoa 4 Archeological District (State Site No. 50-10-37-23.661), Ali'i, Kailua-Kona, 05000542

Waimea Elementary School, HI 19, Kawaihae Rd. TMK (3)6-5-07:3, Kamuela, 05000541

KANSAS

Bourbon County

Ware, Eugene, Elementary School, (Public Schools of Kansas MPS), 900 E. Third St., Fort Scott, 05000552

Cowley County

Pilgrim Congregational Church, 101 N. Third St., Arkansas City, 05000545

Montgomery County

Memorial Hall, Jct. of Pennsylvania Ave. and E. Locust St., Independence, 05000554

Phillips County

Long Island School, (Public Schools of Kansas MPS), Washington School, Long Island, 05000551

Rice County

Lyons High School, (Public Schools of Kansas MPS), 401 S. Douglas Ave., Lyons, 05000556

Riley County

Fitz, Leslie A., House, 1014 Houston St., Manhattan, 05000543

Rooks County

Rooks County Record Building, 501 Main, Stockton, 05000555

Scott County

Shallow Water School, (Public Schools of Kansas MPS), 180 Barclay Ave., Shallow Water, 05000553

Sedgwick County

Lewelling, Governor L.D., House, 1245 N. Broadway, Wichita, 05000547

Shawnee County

Topeka High School, 800 SW. 10th Ave., Topeka, 05000550

Stafford County

Convenanter Church, 113 N. Green St., Stafford, 05000544

Spickard, Joseph L., House, 201 N. Green St., Stafford, 05000546

LOUISIANA

Orleans Parish

Frantz, Willaim, School, 3811 N. Galvez St., New Orleans, 05000557

MASSACHUSETTS

Barnstable County

Dennis Village Cemetery, MA 6A and Old Bass River Rd., Dennis, 05000558

Essex County

Haverhill Historical Society Historic District, 2400 Water St., Haverhill, 05000560

Suffolk County

Collins Building, 213-217 Washington St., Boston, 05000559

MISSISSIPPI

Adams County

Fairchild's Creek Bridge, (Historic Bridges of Mississippi TR), Cty Rd. 555, Natchez, 05000562

Claiborne County

Valley of the Moon Bridge, (Historic Bridges of Mississippi TR), Willows Rd., where it crosses Bayou Pierre, 2 mi. SE of Willows, Port Gibson, 05000561

Copiah County

Bayou Pierre Bridge, (Historic Bridges of Mississippi TR), MS 18, Carpenter, 05000565

Pearl River Bridge on Mississippi Highway 28, (Historic Bridges of Mississippi TR), MS 28, Georgetown, 05000566

Hinds County

Henry, R.H., Bridge, (Historic Bridges of Mississippi TR), U.S. 80 at the Big Black River, Edwards, 05000563

MONTANA

Yellowstone County

Erb, Abraham and Carrie, House, 110 4th Ave., Laurel, 05000564

NEW HAMPSHIRE

Carroll County

Chocorua Lake Basin Historic District, Parts of NH 16, Chocorua Lake Rd., Philbrick Neighborhood, Fowles, Washington Hill Rds & Loring, MacGregor & Bolles Rd., Tamworth, 05000569

Sullivan County

North Charlestown Historic District, River Rd., Charlestown, 05000568

NEW YORK

Columbia County

Lynch Hotel, 41 Ferry Rd., Nutton Hook, 05000573

Erie County

Buffalo Electric Vehicle Company Building, 1219-1247 Main St., Buffalo, 05000571

Fulton County

Levor, Gustav, House, 23 Prospect Ave., Gloversville, 05000572

Livingston County

Conesus Amusement Hall, 6210 S. Livonia Rd., Conesus, 05000567

Nassau County

Clapham—Stern House, (Roslyn Harbor, New York MPS), 48 Glenwood Rd., Roslyn Harbor, 05000570

NORTH CAROLINA

Forsyth County

Hanes, P.H., Knitting Company, 675 N. Main St., 101 W. Sixth St. and 600 N. Chestnut St., Winston-Salem, 05000548

Wake County

Smith, Turner and Amelia, House, (Wake County MPS), 12244 Old Stage Rd., Willow Spring, 05000549

OHIO

Cuyahoga County

Lower Prospect—Huron Historic District (Boundary Increase), (Lower Prospect—Huron District MPS), 727, 737, 1020-1060, 1124 Bolivar Rd., 2217 E. 9th St., and 1303 Prospect Ave., Cleveland, 05000580

St. Luke's Hospital, 11311 Shaker Blvd., Cleveland, 05000579

Erie County

Hotel Rieger, (Sandusky MRA), 232 Jackson St., Sandusky, 05000578

Hamilton County

General Hospital Nurses' Home, 311 Albert Sabin Way, Cincinnati, 05000581

Licking County

Colony Burying Ground, Old, (Granville MRA), 250 S. Aom St., Granville, 05000577

Stark County

Hercules Motors Corporation Industrial Complex, 101 11th St. SE., Canton, 05000575

OREGON

Multnomah County

Pfunder, Louis, House, 2211 SW. Vista Ave., Portland, 05000574

RHODE ISLAND

Bristol County

Alfred Drowne Road Historic District, Alfred Drowne Rd., Annawamscutt Rd., Washington Rd., Barrington, 05000584

Kent County

Centreville Mill, 3 Bridal Ave., West Warwick, 05000582

Providence County

Bernon Worsted Mill, 828 Park Ave., Woonsocket, 05000585

Providence Fruit and Produce Warehouse Company Building, 6-64 Harris Ave., Providence, 05000583

SOUTH CAROLINA

Darlington County

Darlington Memorial Cemetery, Ave. D and Friendship St., Darlington, 05000576

SOUTH DAKOTA

Beadle County

Site 39BE2, (Prehistoric Rock Art of South Dakota MPS), Address Restricted, Wessington Springs, 05000589

Brown County

McGregor House, 621 S. Kline St., Aberdeen, 05000591

Fall River County

Site 39FA1303, (Prehistoric Rock Art of South Dakota MPS), Address Restricted, Edgemont, 05000587

Site 39FA1639, (Prehistoric Rock Art of South Dakota MPS), Address Restricted, Edgemont, 05000586

Lawrence County

Dakota Time and Gold Mine, 20896 Fillmore Mine Ln., Spearfish, 05000592

Roberts County

Site 39RO71, (Prehistoric Rock Art of South Dakota MPS), Address Restricted, Sisseton, 05000588

Spink County

Site 39SP4, (Prehistoric Rock Art of South Dakota MPS), Address Restricted, Tulare, 05000590

UTAH

Davis County

Eldredge, James and Jane, House, 564 W 400 N, West Bountiful, 05000595

Millard County

George Hotel, 100 N. Main, Kanosh, 05000594

Salt Lake County

Butler—Wallin House, 1045 E 4500 S, Salt Lake City, 05000593

Requests for removal have been made for the following resources:

TENNESSEE

Sumner County

Fairvue, 4 mi. S of Gallatin on U.S. 31E, Gallatin vicinity, 75002162

VIRGINIA

Accomack County

Corbin Hall, E of Horntown on VA 679, Horntown vicinity, 72001377

Campbell County

Mansion Truss Bridge, VA 640 over Staunton River, Mansion vicinity, 78003011

Fairfax County

Moorefield, Moorefield Hill Pl., Vienna, 78003014

Greensville County

Spring Hill, VA 730, Emporia vicinity, 85003094

Northampton County

Somers House, SE. of jct of Rtes. 183 and 691, Jamesville vicinity, 70000818

[FR Doc. 05-10489 Filed 5-25-05; 8:45 am]

BILLING CODE 4312-51-P